DEPARTMENT OF TRANSPORTATION

Federal Aviation Administration

Proposed Revision: Technical Standard Order (TSO)—C122a, Equipment that Prevent Blocked Channels Used in Two-Way Radio Communications Due to Simultaneous Transmissions; Correction

AGENCY: Federal Aviation Administration, DOT.

ACTION: Notice of availability and request for public comment; correction.

SUMMARY: The Federal Aviation Administration published a document in the Federal Register on June 3, 2005, concerning Technical Standard Order (TSO) C-122a, Equipment That Prevent Blocked Channels Used in Two-Way Radio Communications Due to Simultaneous Transmissions. The document contains an incorrect Internet address for the retrieval of the TSO.

FOR FURTHER INFORMATION CONTACT: Mr. Thomas Mustach, AIR-130, Room 815, Federal Aviation Administration, Aircraft Certification Service, Aircraft Engineering Division, 800 Independence Avenue, SW., Washington, DC 20591. Telephone (425) 227-1935, FAX: (425) 227-1181. Or, via e-mail at: thomas.mustach@faa.gov.

Correction

In the Federal Register of June 3, 2005, in FR Doc. 05-11114, on page 32699, first column, correct the Internet address listed under “How To Obtain Copies” to read:

How To Obtain Copies

You may get a copy of the proposed TSO from the Internet at: http://www.airweb.gov/rgl. See section entitled FOR FURTHER INFORMATION CONTACT for the complete address if requesting a copy by mail. You may inspect the RTCA document at the FAA office location listed under ADDRESS. Note however, RTCA documents are copyrighted and may not be reproduced without the written consent of RTCA, Inc. You may purchase copies of RTCA, Inc. documents from: RTCA, Inc., 1828 L Street, NW., Suite 815, Washington, DC 20036, or directly from their Web site: http://www.rtca. org/.

Issued in Washington, DC, on June 13, 2005.
Susan J.M. Cabler,
Assistant Manager, Aircraft Engineering Division, Aircraft Certification Service.

[FR Doc. 05-12125 Filed 6-21-05; 8:45 am]

BILLING CODE 4910-13-M